DEPARTMENT OF HOUSING AND URBAN DEVELOPMENT

24 CFR Parts 901, 902, and 907

[Docket No. FR-5094-N-02]

RIN 2577-AC68

Public Housing Evaluation and Oversight: Changes to the Public Housing Assessment System (PHAS) and Determining and Remedying Substantial Default: Reopening of Public Comment Period

AGENCY: Office of the Assistant Secretary for Public and Indian Housing, HUD.

ACTION: Proposed rule; reopening of Public comments period.

SUMMARY: On August 21, 2008, the Department published a proposed rule entitled, “Public Housing Evaluation and Oversight: Changes to the Public Housing Assessment System (PHAS) and Determining and Remedying Substantial Default.” The comment period for this proposed rule ended on October 20, 2008. This notice reopens the comment period for the proposed rule to allow for additional public comment.

DATES: Comment Due Date: January 8, 2009.

ADDRESSES: Interested persons are invited to submit comments regarding this proposed rule to the Regulations Division, Office of General Counsel, Department of Housing and Urban Development, 451 7th Street, SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 Seventh Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-402-3055 (this is not a toll-free number). Individuals with speech or hearing impairments may access this number via TTY by calling the Federal Information Relay Service, toll-free, at 800-877-8339. Copies of all comments submitted are available for inspection and downloading at http://www.regulations.gov.

FOR FURTHER INFORMATION CONTACT: Contact Wanda Funk, Senior Advisor, Department of Housing and Urban Development, Office of Public and Indian Housing, Real Estate Assessment Center (REAC), 550 12th Street, SW., Suite 100, Washington, DC 20410; or the REAC Technical Assistance Center at 888-245-4860 (this is a toll-free number). Persons with hearing or speech impairments may access this number through TTY by calling the toll-free Federal Information Relay Service at 800-877-8339. Additional information is available from the REAC Internet site at http://www.hud.gov/offices/reac/.

SUPPLEMENTARY INFORMATION:

1. Proposed Rule

HUD published a proposed rule on August 21, 2008 (73 FR 49544) that submitted, for a 60-day public comment period, a comprehensive revision to the PHAS regulations. This proposed rule, entitled “Changes to the Public Housing Assessment System and Determining and Remedying Substantial Default” also proposed, among other things, revisions to the PHAS scoring system. The comment period for the proposed rule closed on October 20, by which time approximately 55 comments had been submitted by members of the public.

As part of reopening the public comment period, HUD will be making available a scoring template that will enable PHAs and other interested members of the public to enter information to generate estimated scores under the proposed rule. The purpose of the scoring template is to facilitate understanding of the PHAS scoring system that HUD proposed in its August 21, 2008, proposed rule. The scoring template reflects how scoring would work if the proposed system were adopted at the final rule stage. The template allows the public to enter information to generate estimated scores under the proposed rule. The scoring template is posted on the Office of Public and Indian Housing's Web site at http://www.hud.gov/offices/ph/am/index.cfm.

This tool was not available during the initial public comment period. Given the public interest in this rule, and the availability of this new information, HUD is reopening the public comment period. HUD hopes that this template helps clarify the proposed scoring system, and welcomes additional comments on the scoring system during the reopened public comment period. Accordingly, this notice reopens the public comment period for the PHAS proposed rule, published on August 21, 2008, for an additional 45-day period.

Dated: November 17, 2008.
Paula O. Blunt,
General Deputy Assistant Secretary for Public and Indian Housing.

[FR Doc. E8-27807 Filed 11-21-08; 8:45 am]

BILLING CODE 4210-67-P